ENVIRONMENTAL PROTECTION AGENCY

[OECA-2004-0022; FRL-7660-9]

Agency Information Collection Activities: Proposed Collection; Comment Request; Proposed Information Collection Request for the Evaluation of PrintSTEP, EPA ICR Number 1941.03, OMB Control Number 2020-0023

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on October 31, 2004. Before submitting the ICR to OMB for review and approval, EPA is soliciting comments on specific aspects of the proposed information collection as described below.

DATES: Comments must be submitted on or before July 12, 2004.

ADDRESSES: Submit your comments, referencing docket ID number OECA-2004-0027, to EPA online using EDOCKET (our preferred method), by email to docket.oeca@epa.gov, or by mail to: EPA Docket Center, Environmental Protection Agency, Enforcement and Compliance Docket and Information Center, Mail code: 2201T, 1200 Pennsylvania Ave, NW., Washington, DC 20460.

FOR FURTHER INFORMATION CONTACT: Maureen Lydon, Office of Compliance, Mail code: 2221-A, Environmental Protection Agency, 1200 Pennsylvania Ave., NW., Washington, DC 20460; telephone number: 202-564-4046; fax number: 202-564-0027; e-mail address: lydon.maureen@epa.gov.

SUPPLEMENTARY INFORMATION: EPA has established a public docket for this ICR under Docket ID number OECA-2004-0027, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1514. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: The affected entities are the 56 printing facilities which are participating in the PrintSTEP pilot program in New Hampshire and St. Louis, Missouri.

Title: Proposed Information Collection Request (ICR) for the Evaluation of PrintSTEP.

Abstract: Information will be collected for the evaluation of the PrintSTEP pilot program in New Hampshire and St. Louis, Missouri. PrintSTEP stands for “Printers Simplified Total Environmental Partnership” and is the first simplified program for managing the various environmental regulatory requirements of printers. PrintSTEP's two-year pilot has four features: Operational flexibility, incentives for and assistance with pollution prevention activities, regulatory simplification and public participation. The evaluation will determine the extent to which the goals of the pilot program are met. These goals are: Enhanced environmental protection; increased use of pollution prevention practices; simplified regulatory process for printers; improved efficiency of administration of state agencies; enhanced public involvement; participants realize benefits and are motivated to participate in PrintSTEP; and cost effectiveness for all stakeholders. The evaluation encompasses a baseline survey, mid-point review, and end-of-pilot survey. The baseline survey and mid-point review will have been completed by the time the current ICR expires. So, the proposed ICR is necessary for the end-of-pilot survey of the 56 printers voluntarily participating in the pilot. The lessons learned from the pilot will be shared with states interested in establishing PrintSTEP-like programs and may be translated into a guide for developing, implementing and evaluating pilot programs.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: It is estimated that the end-of-pilot telephone survey of each of the participating 56 printers will be approximately 12 minutes in duration (or .2 hours per response). The time to complete the written survey will be approximately 2.75 hours per participating printer. The total resulting burden would be 165 hours. With regard to costs, it is estimated that the time to be spent responding to the evaluation survey would be worth, on average, approximately $28.59 per hour per participating printer. Taking into account the total burden of 165 hours, this results in an estimated total cost of $4,723. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 6, 2004.
Lisa Lund,
Acting Director, Office of Compliance, Office of Enforcement and Compliance Assurance.

[FR Doc. 04-10893 Filed 5-12-04; 8:45 am]

BILLING CODE 6560-50-P